DEPARTMENT OF THE INTERIOR

Bureau of Land Management

[OR-65891, L51010000 ER0000 LVRWH09H0560 LLORB00000]

Notice of Availability of the Record of Decision for the North Steens 230 Kilovolt Transmission Line, Harney County, OR

AGENCY: Bureau of Land Management, Interior.

ACTION: Notice of availability.

SUMMARY: The Bureau of Land Management (BLM) announces the availability of the Record of Decision (ROD) for the North Steens 230 kilovolt (kV) Transmission Line Project. The Secretary of the Interior approved the ROD on December 28, 2011, which constitutes the Department's final decision.

ADDRESSES: Copies of the ROD are available upon request from the District Manager, BLM Burns District Office, 28910 Hwy 20 West, Hines, Oregon 97738, or at the following Web site: http://www.blm.gov/or/districts/burns/plans/index.php.

FOR FURTHER INFORMATION CONTACT: Skip Renchler, Realty Specialist, telephone; (541) 573-4443; address; BLM Burns District Office, 28910 Hwy 20 West, Hines, Oregon 97738; email: BLM_OR_BU_NS_Transmission_Line_EIS@blm.gov.

SUPPLEMENTARY INFORMATION: The applicant, Echanis, LLC, a subsidiary of Columbia Energy Partners, LLC, filed right-of-way (ROW) applications for ROWs with the BLM and the U.S. Fish and Wildlife Service for construction, operation, maintenance, and termination of a 29-mile-long, 230kV transmission line that would connect the proposed Echanis Wind Energy Project, located on private land on the north end of Steens Mountain, with Harney Electric Cooperative's existing transmission system near Diamond Junction, Oregon.

The ROD approves the BLM-preferred Alternative, now the Selected Alternative, and will result in the grant of ROWs for construction, operation, maintenance and termination of a 230-kV transmission line, tensioning sites and related access across lands administered by the BLM. The route for the Selected Alternative would originate at the Echanis Wind Energy Project substation, south of Diamond, Oregon and connect to Harney Electric Cooperative's existing 115-kV transmission line near Crane, Oregon. The Selected Alternative would not cross the Malheur National Wildlife Refuge administered by the U.S. Fish and Wildlife Service. This alternative will enable the construction of the Echanis Wind Energy Project on private land. The effects of the wind project on private land are analyzed in the Final Environmental Impact Statement (EIS) because they are “connected actions” under the National Environmental Policy Act of 1969.

This BLM-preferred Alternative was evaluated in the Final EIS. The Notice of Availability of the Final EIS for the North Steens 230kV Transmission Line Project was published in the Federal Register on October 21, 2011 (76 FR 65509).

Because this decision is approved by the Secretary of the Interior, it is not subject to administrative appeal (43 CFR 4.410(a)(3)).

Authority: 40 CFR 1506.6.

Mike Pool,
Deputy Director, Bureau of Land Management.

[FR Doc. 2011-33810 Filed 1-4-12; 8:45 am]

BILLING CODE 4310-33-P